DEPARTMENT OF JUSTICE

National Institute of Corrections

Solicitations for a Cooperative Agreement: Production of Eight Satellite/Internet Broadcasts

AGENCY: National Institute of Corrections, Department of Justice.

ACTION: Solicitation for a cooperative agreement.

SUMMARY: The Department of Justice (DOJ), National Institute of Corrections (NIC), announces the availability of funds in FY 2004 for a cooperative agreement to fund the production of eight satellite/Internet broadcasts. Four of the proposed programs are nationwide satellite/Internet broadcasts. Four of the proposed programs are nationwide satellite/Internet broadcasts (three hours each). The other four are satellite/Internet Training Programs: two of the four are site coordinator/facilitator training (Training for Trainers) sessions. The site coordinator precursor modules will contain eight hours of satellite/Internet training split over two days. The remaining two training programs are content-driven programs, one 24 hours in length and the other 32 hours in length. For the 24-hour program, there will be 12 hours of live-broadcast satellite/Internet training over three days (supplemented by 12 hours of off-air activities directed by previously trained site coordinators). For the 32-hour program, there will be 16 hours of live-broadcast satellite/Internet training over four days (supplemented by 16 hours of off-air activities directed by previously trained site coordinators). There will be a total of 56 hours of broadcast time in FY 2004.

DATES: Applications must be received by 4 p.m. on Tuesday, September 30, 2003. They should be addressed to: Director, National Institute of Corrections, 320 First Street, NW., Room 5007, Washington, DC 20534. Applicants are encouraged to use Federal Express, UPS, or similar service to insure delivery by the due date. Hand delivered applications can be brought to 500 First Street, NW., Room 5007, Washington, DC 20534. The security desk will call (202) 307-3106, and 0 for pickup. Faxed or e-mailed applications will not be accepted.

FOR FURTHER INFORMATION CONTACT: A copy of this announcement and the required application forms can be downloaded from the NIC web page at www.nicic.org (click on “partnering with NIC” and then “cooperative agreement.”) Hard copies of the announcement can be obtained by calling Rita Rippetoe at 1-800-995-6423, ext. 44222, or by e-mail at rrippetoe@bop.gov. Any specific questions regarding the application process should be directed to Ms. Rippetoe.

All technical and/or programmatic questions concerning this announcement should be directed to Ed Wolahan, Corrections Program Specialist, at 1960 Industrial Circle, Longmont, Colorado 80501, or by calling 800-995-6429, ext 131, or by e-mail at ewolahan@bop.gov.

SUPPLEMENTARY INFORMATION:

Background

Satellite/Internet Broadcasting is defined as training/education process transpiring between trainers/teachers at one location and participants/students at other locations via technology. NIC is using satellite broadcasting and the Internet to economically reach more correctional staff in Federal, State and local agencies. Another strong benefit of satellite delivery is its ability to broadcast programs conducted by experts in the correctional field, thus reaching the entire audience at the same time with exactly the same information. In addition, NIC is creating training programs from its edited 24- and 32-hour satellite/Internet training programs for dissemination through the NIC Information Center.

Purpose

The purpose for funding this initiative is to:

(1) Produce four three-hour satellite/Internet broadcasts, disseminating current information to the criminal justice community;

(2) Product two eight-hour training sessions for site coordinators/facilitators. These sessions will train facilitators from each registered site concerning the outcomes expected and the knowledge and skills needed to facilitate the broadcast and off-air activities for the two training programs described in paragraph (3) below;

(3) Produce two satellite/Internet training programs (one 16 hours in length and one 12 hours in length) that respond directly to the needs identified by practitioners working in criminal justice. The 16-hour satellite/Internet training will be delivered four hours each day from Monday through Thursday and the 12-hour training will be delivered for four hours each day from Tuesday through Thursday.

Scope of Work

To address the scope of work for this project, the following will be needed:

1. Producer Consultation and Creative Services: The producer will: (a) Consult and collaborate with NIC's Distance Learning Manager on program design, program coordination, design of field segments and content development; (b) work with each consultant/trainer to develop their modules for delivery using the satellite/Internet format and/or the teleconference format; (c) help develop scripts, graphic design, production elements and rehearsals for each module of the site coordinators' training and the satellite/Internet training programs; and (d) use their expertise in designing creative ways to deliver satellite teleconferencing. The producer will also be responsible for attending planning meetings and assisting in the video of testimonials at conferences.

2. Pre-Productive Video: The producer will supervise the production of vignettes to be used in each of the three-hour satellite/Internet broadcast, as well as the 12- and 16-hour satelletie/Internet training programs. NIC presenters (content experts) will draft outlines of the scripts for each vignette. From the outlines, scripts will be developed by the producer (script writing expert) and approved by NIC's Distance Learning Manager. Professional actors will play the parts designated by the script. Story boards for each production will be written by NIC's Distance Learning Manager.

The producer will supervise camera and audio crews to capture testimonials from leaders in the correctional field at designated correctional conferences. The producer will coordinate all planning of the production and post-production for each of the eight satellite/Internet broadcasts.

Video Production: Video production for each teleconference will consist of videotaping content-related events in the field, editing existing video, and videotaping experts for testinomal presentations. It will also include voice-over, audio and music for each video, if necessary. Blank tapes and narration for field shooting will be purchased for each site. The format for all field shooting will be either Beta Cam, DV Pro Digital and/or Mini DVD.

Post Production (Studio): Innovative and thought-provoking opening sequences will be produced for each teleconference. In addition, graphics will be utilized to enhance the learning in each module. The producer will coordinate art direction, lighting, and set design and furniture for all teleconference segments. (Set design should change periodically throughout the award period). The producer will organize and supervise the complete production crew on rehearsal and production days, per the schedules below.

3. Production: The production group will set up and maintain studio lighting, adjust audio, and have a complete production crew for the days and hours set forth below. A production crew shall include the following: Director, Audio Operator, Video Operator, Character Generator Operator, Floor Director, Four (4) Camera Operators, Teleprompter Operator, On-Line Internet Coordinator, Make-Up Artist (production time only), and Interactive Assistance Personnel (fax, e-mail, and telephone).

(1) Site Coordinators' Training for Foundation Skills for Trainers (8 Hours)

Production Dates: December 10-11, 2003

Rehearsal: December 9, 2003—8 hours

Production On-Air and Rehearsal: December 10, 2003—9 hours

Production On-Air: December 11, 2003—5 hours

(2) Implementing Effective Correctional Management of Offenders in the Community (3 Hours)

Program Date: February 25, 2004

Rehearsal: February 24, 2004—8 hours

Production On-Air February 25, 2004—5 hours

(3) Foundation Skills for Trainers (16 Hours of Satellite/Internet Broadcast)

Program Dates: March 22-25, 2004

Rehearsal: March 21, 2004—8 hours

Production On-Air and Rehearsal: March 22, 2004—9 hours

Production On-Air and Rehearsal: March 23, 2004—9 hours

Production On-Air and Rehearsal: March 24, 2004—9 hours

Production On-Air: March 25, 2004—5 hours

(4) Thinking for a Change (3 Hours)

Program Date: April 28, 2004

Rehearsal: April 27, 2004—8 hours

Production On-Air: April 28, 2004—5 hours

(5) Site Coordinators' Training for Agency FTO/OJT Program Development (8 Hours)

Program Dates: May 19-20, 2004

Rehearsal: May 18, 2004—8 hours

Production On-Air and Rehearsal: May 19, 2004—9 hours

Production On-Air: May 20, 2004—5 hours

(6) Staff Wellness (3 Hours)

Program Date: June 16, 2004

Rehearsal: June 15, 2004—8 hours

Production On-Air: June 16, 2004—5 hours

(7) Agency FTO/OJT Program Development (12 Hours of Satellite/Internet Broadcast)

Program Dates: August 17 to 19, 2004

Rehearsal: August 16, 2004—8 hours

Production On-Air & Rehearsal: August 17, 2004—9 hours

Production On-Air & Rehearsal: August 18, 2004—9 hours

Production On-Air: August 19, 2004—5 hours

(8) Classification of High-Risk Offenders (3 Hours)

Program Date: September 15, 2004

Rehearsal: September 14, 2004—8 hours

Production On-Air: September 15, 2004—5 hours

4. Transmission:

a. Purchase satellite uplink time that will include the footprints of Alaska, Hawaii, Virgin Islands, and the Continental United States;

b. Acquire downlink transponder time for KU-Band and C-Band; and

c. Purchase Internet streaming of 200 simultaneous feeds for each program.

5. Equipment: Applicants must have a minimum of the following equipment:

a. Broadcast Studio of approximately 2,000 square feet, with an area for a studio audience of between 15 and 20 people;

b. Four Digital Studio Cameras (one of which may be an overhead camera with robotic control);

c. Chroma Key: At least one wall with chroma key capability along with the digital ultimate keying system;

d. A tape operation facility providing playback/record in various formats, including DV, Betacam, Betacam SP, SVHS, VHS, U-Matic 3/4 & SP;

e. A/B roll linear and digital nonlinear editing;

f. Three-dimensional animation with computer graphics;

g. Internet streaming capacity for several hundred simultaneous downloads in both G2 Real Player and Microsoft Media Player;

h. Ability to archive three to four satellite/Internet broadcasts from FY 2003 and all eight broadcasts from FY 2004;

i. Computer Teleprompter for at least two studio cameras;

j. Satellite Uplink and Transponder: KU-Band and C-Band/or Digital with C-Band to cover the footprints of Alaska, Hawaii, Virgin Islands, and the Continental United States; and

k. Portable Field Equipment: Digital Video Cameras with recording decks, portable lighting kits, microphones (both hand-held and lapel), field monitors, audio mixers, and camera tripods.

6. Personnel: Applicants must have a minimum of the following qualified personnel:

a. Producer/Director

b. Script Writer

c. Set Designer

d. Lighting Designer

e. Audio Operator

f. Graphics Operator

g. Graphics Artist

h. Floor Manager

i. Studio Camera Operators (4)

j. Tape Operator

k. Location Camera Operator

l. Teleprompter Operator

m. Clerical/Administrative Support

n. Makeup Artist

Application Requirement: Applicants must submit an original (signed in blue ink) and five copies of their application and the required forms (see below). Applicant must prepare a proposal that describes their plan to address the requirements to produce eight live satellite/Internet broadcasts. The plan must include a list of all required equipment, identify their key operational staff and the relevant expertise of each, and address the manner in which they would perform all tasks in collaboration with NIC's Distance Learning Manager. Please note that the Standard Form 424, Application for Federal Assistance, submitted with the proposal must contain the cover sheet, budget, budget narrative, assurances, certifications, and management plan. All required forms and instructions for their completion may be downloaded from the NIC website: http://www.nicic.org.

Authority: Public Law 93-415.

Amount of Award: This is a cooperative agreement. A cooperative agreement is a form of assistance relationship through which the National Institute of Corrections is involved during the performance of the award. This award is made to an organization who has the capability to produce live satellite/Internet teleconferences. This initiative emphasizes television quality production that meets or exceeds major network quality. The award will be limited to $300,000 for both direct and indirect costs related to this project. Funds may not be used to purchase equipment, for construction, or to acquire or build real property. This project will be a collaborative venture with the NIC Academy Division.

All products from this funding will be in the public domain and available to interested agencies through the National Institute of Corrections.

Availability of Funds: Funds are not presently available for this cooperative agreement. The Government's obligation under this cooperative agreement is contingent upon the availability of appropriated funds from which payment for cooperative agreement purposes can be made. No legal liability on the part of the government for any payment may arise until funds are made available for this cooperative agreement and until the awardee receives notice of such availability, to be confirmed in writing. Nothing contained herein shall be construed to obligate the parties to any expenditure or obligation of funds in excess or in advance of appropriation in accordance with Antideficiency Act, 31 U.S.C. 1341.

Award Period: This award period is from December 1, 2003 to November 30, 2004.

Eligible Applicants: An eligible applicant is any state or general unit of local government, public or private agency, educational institution, organization, team or individual with the requisite skills to successfully meet the objectives of the project.

Review Considerations: Applications received under this announcement will be subjected to an NIC 3 to 5 member review panel.

Number of Awards: One (1).

Executive Order 12372: This program is not subject to the provisions of Executive Order 12372.

NIC Application Number: 04A21. This number should appear as a reference line in your cover letter and also in box 11 of Standard Form 424, and on the outside of the package sent to NIC.

Catalog of federal domestic assistance number: 16,601; Corrections—Staff Training and Development.

Dated: August 13, 2003.
Larry B. Solomon,
Deputy Director, National Institute of Corrections.

[FR Doc. 03-21255 Filed 8-19-03; 8:45 am]

BILLING CODE 4410-36-M